DEPARTMENT OF THE INTERIOR

Bureau of Indian Affairs

Proposed Agency Information Collection Activities; Comment Request

AGENCY: Bureau of Indian Affairs, Interior.

ACTION: Notice of renewal of information collection.

SUMMARY: The Bureau of Indian Affairs (BIA) is seeking comments on the Indian Service Population and Labor Force Estimates as we prepare to renew the collection as required by the Paperwork Reduction Act.

DATES: Submit comments on or before May 9, 2005.

ADDRESSES: Your comments and suggestion on the requirements should be made directly to Mr. Harry Rainbolt, Budget Officer, Office of Tribal Services, Bureau of Indian Affairs, Department of the Interior, 1951 Constitution Avenue, Mail Stop 321-SIB, NW., Washington, DC 20245; Telephone (202) 513-7630.

FOR FURTHER INFORMATION CONTACT: You may request further information or obtain copies of the proposed information collection request from Mr. Harry Rainbolt at (202) 513-7630.

SUPPLEMENTARY INFORMATION:

I. Abstract

The information is mandated by Congress through Pub. L. 102-477, Indian Employment, Training and Related Services Demonstration Act of 1992, section 17. The Act requires the Secretary to develop, maintain and publish, not less than biennially, a report on the population by gender, income level, age, service area and availability for work. The information is used by Congress, other Federal agencies, State and local governments and private sectors for the purpose of developing programs, planning, and to award financial assistance to American Indians.

II. Request for Comments

The Bureau of Indian Affairs requests your comments on this collection concerning:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request and an individual need not respond to, a collection of information unless it has a valid OMB Control Number.

It is our policy to make all comments available to the public for review at the location listed in the ADDRESSES section, room 321-SIB, during the hours of 8 a.m. to 4 p.m., e.s.t., Monday through Friday except for legal holidays. If you wish to have your name and/or address withheld, you must state this prominently at the beginning of your comments. We will honor your request according to the requirements of the law. All comments from organizations or representatives will be available for review. We may withhold comments from review for other reasons.

III. Data

OMB Control Number: 1076-0147.

Type of Review: Renewal.

Title: Department of the Interior, Bureau of Indian Affairs, Indian Service Population and Labor Force Estimates.

Brief Description of Collection: The Office of Tribal Services contacted 10 of the 562 federally recognized Indian Tribes. The ten tribes contacted ranged in size from small (less than 500 members) to large tribes (more than 20,000 members). The estimated time it took each tribe to respond to the biennial report was between one hour and four days depending on the sophistication of the tribal government. All things considered, it takes each tribe an estimated eight hours to complete the survey.

Number of Respondents: 562.

Estimated Time per Response: 8 hours.

Frequency of Response: Biennially.

Total Annual Burden to Respondents: 5000 hours biennially.

Total Annual Cost to Respondents: N/A.

Dated: March 2, 2005.
Michael D. Olsen,
Acting Principal Deputy Assistant Secretary—Indian Affairs.

[FR Doc. 05-4555 Filed 3-8-05; 8:45 am]

BILLING CODE 4310-4J-P